Proclamation 7994 of March 29, 2006

National Donate Life Month, 2006

By the President of the United States of America

A Proclamation

National Donate Life Month is an opportunity to celebrate the tremendous generosity of those who have saved lives by becoming organ, tissue, marrow, and blood donors and to encourage more Americans to follow their fine example.

Last year, more than 28,000 organ transplants took place in the United States—more than at any other time in history. Despite this progress, more than 90,000 of our fellow citizens remain on a waiting list for a donation, and many lives are lost each year while waiting for organ transplants. Through programs like the Workplace Partnership for Life, sponsored by the Department of Health and Human Services, my Administration remains committed to supporting organ, marrow, tissue, and blood donations. As public and private organizations work together, we will educate more Americans about the importance of giving life.

During National Donate Life Month, I urge more Americans to make the decision to donate the gift of life. Individuals can learn more about becoming an organ and tissue donor at www.organdonor.gov. By saying yes to organ and tissue donation on their driver's licenses, adding their name to donor registries, or talking about their decision with family and friends, citizens help save lives and contribute to a more compassionate and hopeful society.

NOW, THEREFORE, I, GEORGE W. BUSH, President of the United States of America, by virtue of the authority vested in me by the Constitution and laws of the United States, do hereby proclaim April 2006 as National Donate Life Month. I call upon health care professionals, volunteers, educators, government agencies, faith-based and community groups, and private organizations to help raise awareness about the urgent need for organ and tissue donors throughout our Nation.

IN WITNESS WHEREOF, I have hereunto set my hand this twenty-ninth day of March, in the year of our Lord two thousand six, and of the Independence of the United States of America the two hundred and thirtieth.

B

[FR Doc. 06-3236

Filed 3-31-06; 8:45 am]

Billing code 3195-01-P